DEPARTMENT OF ENERGY

Federal Energy Regulatory Commission

[Docket No. CP04-17-000]

CenterPoint Energy Gas Transmission Company; Notice of Request Under Blanket Authorization

November 24, 2003.

Take notice that on November 14, 2003, CenterPoint Energy Gas Transmission Company (CEGT), 1111 Louisiana Street, Houston, Texas 77002-5231, filed in Docket No. CP04-17-000, a request pursuant to §§ 157.205 and 157.216 of the Commission's Regulations under the Natural Gas Act (18 CFR 157.205 and 157.216) for authorization to abandon certain facilities and to continue to operate certain other facilities in Webster Parish in the State of Louisiana, under CEGT's blanket certificate issued in Docket Nos. CP82-384-000 and CP82-384-001 pursuant to section 7(C) of the Natural Gas Act, all as more fully described in the request.

The request is on file with the Commission and is available for public inspection at the Commission or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

CEGT proposes to abandon, by sale and transfer, certain above-ground facilities that are currently a part of various CEGT delivery point facilities in the State of Louisiana as described more fully in the request. CEGT further proposes to sell and transfer these facilities to CenterPoint Energy Arkla (Arkla), a distribution division of CenterPoint Energy, Incorporated, at the estimated net book value of $123,345.98. CEGT states that no services would be abandoned as a result of the proposed sale and transfer. The request states that Arkla would own and operate these facilities as part of its distribution system.

CEGT avers that a review of its certificates, initiated in conjunction with the proposed abandonment, has raised the possibility that certain of CEGT's facilities may require certificate authorization. CEGT, therefore, also seeks Commission authorization for the continued operation of certain existing facilities known as Line FM-47 and the Sibley-Dubberly town border meter station in Webster Parish, Louisiana.

Any person or the Commission's Staff may, within 45 days after the issuance of the instant notice by the Commission, file pursuant to Rule 214 of the Commission's Procedural Rules (18 CFR 385.214) a motion to intervene or notice of intervention and, pursuant to § 157.205 of the Commission's Regulations under the Natural Gas Act (NGA) (18 CFR 157.205) a protest to the request. If no protest is filed within the time allowed therefor, the proposed activity shall be deemed to be authorized effective the day after the time allowed for protest. If a protest is filed and not withdrawn within 30 days after the time allowed for filing a protest, the instant request shall be treated as an application for authorization pursuant to section 7 of the NGA. Comments, protests and interventions may be filed electronically via the Internet in lieu of paper. See, 18 CFR 385.2001(a)(1)(iii) and the instructions on the Commission's Web site under the “e-Filing” link.

Any questions regarding this application should be directed to Lawrence O. Thomas, Director-Rates & Regulatory, CenterPoint Energy Gas Transmission Company, P.O. Box 21734, Shreveport, Louisiana 71151, or call (318) 429-2804.

Comment Date: January 8, 2004.

Magalie R. Salas,
Secretary.

[FR Doc. E3-00417 Filed 12-01-03; 8:45 am]

BILLING CODE 6717-01-P